FEDERAL EMERGENCY MANAGEMENT AGENCY

44 CFR Part 65

[Docket No. FEMA-D-7507]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR Part 10, Environmental Consideration. No environmental impact assessment has been prepared.

Regulatory Flexibility Act. The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Morgan | City of Decatur | December 5, 2000; December 12, 2000, The Decatur Daily | The Honorable Julian Price, Mayor of the City of Decatur, P.O. Box 488, Decatur, Alabama 35602 | Nov. 27, 2000 | 010176 D
Florida:
Polk | Unincorporated Areas | December 15, 2000, December 22, 2000, The Ledger | Mr. Jim W. Keene, Polk County Manager, 330 West Church Street, P.O. Box 9005, Drawer BC01, Bartow, Florida 33831-9005 | Dec. 21, 2000 | 120261 F
Seminole | Unincorporated Areas | November 1, 2000, November 8, 2000, Seminole Herald | Mr. Kevin Grace, Seminole County Manager, 1101 East First Street, Sanford, Florida 32771 | Feb. 7, 2001 | 120289 E
Seminole | City of Winter Springs | November 1, 2000, November 8, 2000, Seminole Herald | Mr. Ronald McLemore, City of Winter Springs Manager, 1126 East State Road, Suite 434, Winter Springs, Florida 32708 | Feb. 7, 2001 | 120295 E
Georgia:
Catoosa | Unincorporated Areas | January 17, 2001, January 24, 2001, The Catoosa County News | Mr. L. C. Cripps, Chairman of the Catoosa County Board of Commissioners, Catoosa County Courthouse, 7694 Nashville Street, Ringgold, Georgia 30736 | Jan. 5, 2001 | 130028 D
Catoosa | City of Fort Oglethorpe | January 17, 2001, January 24, 2001, The Catoosa County News | The Honorable Judson L. Burkhart, Mayor of the City of Fort Oglethorpe, 500 Greenleaf Circle, Fort Olgethorpe, Georgia 30792 | Jan. 5, 2001 | 130248 D
Chatham | Unincorporated Areas | November 10, 2000, November 17, 2000, Savanna Morning News | Dr. Billy Hair, Chairman of the Chatham County Board of Commissioners, P.O. Box 8161, Savannah, Georgia 31412 | Feb. 16, 2001 | 130030 C
Chatham | City of Pooler | November 10, 2000, November 17, 2000, Savanna Morning News | The Honorable Earl Carter, Mayor of the City of Pooler, 100 Southwest Highway 80, Pooler, Georgia 31322 | Feb. 16, 2001 | 130261 C
Illinois: Kane, Dupage, Will, and Kendall Counties | City of Aurora | December 5, 2000, December 12, 2000, The Beacon News | The Honorable David L. Stover, Mayor of the City of Auro, 44 East Downer Place, Aurora, Illinois 60507 | March 13, 2001 | 170320 E
Dupage and Will | Village of Bolingbrook | December 22, 2000, December 29, 2000, The Bolingbrook Sun | The Honorable Roger C. Claar, Mayor of the Village of Bolingbrook, 375 Briarcliff Road, Bolingbrook, Illinois 60440-0951 | Mar. 30, 2001 | 170812 E
Will | Village of Bolingbrook | November 17, 2000, November 22, 2000, The Bolingbrook Sun | The Honorable Roger C. Claar, Mayor of the Village of Bolingbrook 375 West Briarcliff Road, Bolingbrook, Illinois 60440-0951 | Oct. 26, 2000 | 170812 E
Kane | Village of South Elgin | January 19, 2001, January 26, 2001, Daily Herald | Mr. Rick Zirk, South Elgin Village President, 10 North Water Street, South Elgin, Illinois 60177 | Jan. 10, 2001 | 170332 B
Will | Unicorporated Areas | December 20, 2000, December 27, 2000, The Hearald-News | Mr. Joseph Mikan, Will County Executive, 302 North Chicago Street, Joliet, Illinois 60432 | Mar. 28, 2001 | 170695 E
DeKalb | City of Dekalb | November 28, 2000, December 5, 2000, The Daily Chronicle | The Honorable Bessie Chronopoulos, Mayor of the City of Dekalb, 200 South 4th Street, Dekalb, Illinois 60115 | Mar. 6, 2001 | 170182 D
DuPage | Village of Glendale Heights | December 7, 2000, December 14, 2000, Glendale Heights Press | Mr. J. Ben Fajardo, President, Village of Glendale Heights, 300 East Civic Center Plaza, Glendale Heights, Illinois 60139 | Nov. 30, 2000 | 170206 C
Indiana:
Lake | Town of Dyer | January 16, 2001, January 23, 2001, The Times | Mr. Glen Eberly, President of the Town of Dyer Board of Trustees, One Town Square, Dyer, Indiana 46311 | Jan. 8, 2001 | 180129 D
Lake | Town of Schererville | January 16, 2001, January 23, 2001, The Times | Mr. Richard Krame, Schererville Town Manager, 833 West Lincoln Highway, Suite B20W, Schererville, Indiana 46375 | Jan. 8, 2001 | 180142 B
Vanderburgh | Unincorporated Areas | November 24, 2000, December 1, 2000, The Evansville Courier and Press | Ms. Bettie Lou Jerrel, President of the Vanderburgh County Board of Commissioners, Civic Center Complex, Room 305, One NW Martin Luther King, Jr., Boulevard, Evansville, Indiana 47708-1874 | Mar. 2, 2001 | 180256 C
Kentucky:
Jefferson | Unincorporated Areas | December 19, 2000, December 26, 2000, The Courier-Journal | The Honorable Rebecca Jackson, Jefferson County Judge Executive, Jefferson County Courthouse, 527 West Jefferson Street, Suite 400, Louisville, Kentucky 40202 | Mar. 26, 2001 | 210120
Pike | Unincorporated Areas | December 27, 2000, January 3, 2001, Appalachian News-Express | The Honorable Karen Gibson, CPA, Pike County Judge Executive, 324 Main Street, Pikeville, Kentucky 41501 | Dec. 15, 2000 | 210298F
Pike | City of Pikeville | December 27, 2000, January 3, 2001, Appalachian News-Express | The Honorable Frank Morris, Mayor of the City of Pikeville, 118 College Street, Pikeville, Kentucky 41501 | Dec. 15, 2000 | 210193F
Michigan:
Shiawassee | City of Owosso | November 24, 2000, December 1, 2000, The Argus-Press | The Honorable John C. M. Davis, Mayor of the City of Owosso, 301 West Main Street, Owosso, Michigan 48867 | Mar. 2, 2001 | 260596 A
Macomb | City of Sterling Heights | June 14, 2000, June 21, 2000, The Macomb Daily | The Honorable Richard J. Notte, Mayor of the City of Sterling Heights, 40555 Utica Road, P.O. Box 8009, Sterling Heights, Michigan 48311 | Sept. 5, 2000 | 260128 F
Mississippi:
Hinds | City of Clinton | November 29, 2000, December 6, 2000, The Clarion Ledger | The Honorable Rosemary Aultman, Mayor of the City of Clinton, P.O. Box 156, Clinton, Mississippi 39060 | Mar. 6, 2001 | 280071 C
Harrison | City of Gulfport | December 29, 2000, January 5, 2001, The Sun Herald | The Honorable Bob Short, Mayor of the City of Gulfport, P.O. Box 1780, Gulfport, Mississippi 39502 | Feb. 13, 2001 | 285253
Harrison | City of Gulfport | January 10, 2001, January 17, 2001, The Sun Herald | The Honorable Bob Short, Mayor of the City of Gulfport, P.O. Box 1730, Gulfport, Mississippi 39502 | April 18, 2001 | 285253 E
New Jersey: Cape May | City of North Wildwood | January 10, 2001, January 17, 2001, The Leader | The Honorable Aldo A. Palombo, Mayor of the City of North Wildwood, Municipal Building, 901 Atlantic Avenue, North Wildwood, New Jersey 08260 |  | 345308 E
North Carolina:
Wake | Town of Cary | January 24, 2001, January 31, 2001, The Cary News | The Honorable Glenn D. Lang, Mayor of the Town of Cary, 318 North Academy Street, P.O. Box 8005, Cary, North Carolina 27512 | Oct. 24, 2000 | 370238 E
Orange | Town of Carrboro | December 29, 2000, January 5, 2001, The Chapel Hill Herald | Mr. Robert W. Morgan, Town of Carrboro Manager, P.O. Box 829, Carrboro, North Carolina 27510 | Dec. 20, 2000 | 370275 B
Orange, Durham, and Chatham | Town of Chapel Hill | December 12, 2000, December 19, 2000, The Herald-Sun | The Honorable Rosemary Waldorf, Mayor of the Town of Chapel Hill, 306 North Columbia Street, Chapel Hill, North Carolina 27516 | Mar. 19, 2001 | 370180 E
Ohio:
Franklin | Village of Canal Winchester | November 30, 2000, December 7, 2000, The Columbus Dispatch | The Honorable Marcia Hall, Mayor of the Village of Canal Winchester, 36 South High Street, Canal Winchester, Ohio 43110 | Mar. 8, 2001 | 390169 H
Franklin | Unincorporated Areas | November 30, 2000, December 7, 2000, The Columbus Dispatch | Ms. Arlene Shoemaker, President, Franklin County Board of Commissioners, 373 South High Street, 26th Floor, Columbus, Ohio 43215-6304 | Mar. 8, 2001 | 390167 H
Lucas | Unincorporated Areas | December 8, 2000, December 15, 2000, The Blade | Ms. Sandy Isenberg, President of the Board of Commissioners, One Government Center, Suite 800, Toledo, Ohio 43604-2259 | Dec. 1, 2000 | 390359 D
Pennsylvania:
Montgomery | Township of Abbington | December 6, 2000, December 13, 2000, Times Chronicle | Ms. Barbara Ferrara, President of Abington Township Board of Commissioners, 1176 Old York Road, Abington, Pennsylvania 19001 | Mar. 14, 2001 | 420695 E
Dauphin | Township of Lower Paxton | December 6, 2000, December 13, 2000, Patriot News | Mr. George S. Wolfe, Lower Paxton Township Manager, 75 South Houcks Road, Suite 207, Harrisburg, Pennsylvania 17109 | Nov. 28, 2000 | 420384 B
South Carolina: Lexington | Unincorporated Areas | December 22, 2000, December 29, 2000, The State | Mr. Johnny Jeffcoat, Lexington County Chairman, 212 South Lake Drive, Lexington, South Carolina 29072 | Dec. 15, 2000 | 450129 G
Tennessee:
Unicoi | City of Erwin | January 24, 2001, January 31, 2001, The Erwin Record | The Honorable Russell Brackins, Mayor of the City of Erwin, Town Hall, P.O. Box 59, Erwin, Tennessee 37650 | May 2, 2001 | 470094 B
Shelby | Town of Collierville | December 13, 2000, December 20, 2000, The Commercial Appeal | The Honorable Linda Kerley, Mayor of the Town of Collierville, 101 Walnut Street, Collierville, Tennessee 38017-2671 | Mar. 20, 2001 | 470263 E
Metropolitan Government | City of Nashville and Davidson County | December 12, 2000, December 19, 2000, The Tennessean | The Honorable William Purcell, Mayor of the Metropolitan Government of Nashville and Davidson County, 107 Metropolitan Courthouse, Nashville, Tennessee 37201 | Dec. 4, 2000 | 470040 C
Metropolitan Government | Nashville & Davidson County | December 7, 2000, December 14, 2000, The Tennessean | The Honorable Bill Purcell, Mayor of the City of Nashville and Davidson County, 107 Metropolitan Courthouse, Nashville, Tennessee 37201 | Dec. 1, 2000 | 470040 C
Shelby | Unincorporated Areas | December 13, 2000, December 20, 2000, The Commercial Appeal | The Honorable Jim Rout, Mayor of Shelby County, 160 North Main Street, Suite 850, Memphis, Tennessee 38103 | Mar. 20, 2001 | 470214 E
Virginia:
Arlington | Unincorporated Areas | November 10, 2000, November 17, 2000, The Journal Newspaper | Mr. William Donahue, Arlington County Manager, 2100 Clarendon Boulevard, Room 302, Arlington, Virginia 22201 | May 3, 1982 | 515520
Independent City | City of Falls Church | November 10, 2000, November 17, 2000, The Journal Newspaper | The Honorable Daniel Gardner, Mayor of the City of Falls Church, 300 Park Avenue, Falls Church, Virginia 22046 | Feb. 3, 1982 | 510054
Henrico | Unincorporated Areas | December 1, 2000, December 8, 2000, The Richmond Times | Mr. Frank Thornton, Chairman of the Henrico County, Board of Supervisors, P.O. Box 27032, Richmond Virginia 23273 | Feb. 20, 2001 | 510077 B

(Catalog of Federal Domestic Assistance No. 83.100, “Flood Insurance”)
Dated: January 30, 2001.
Margaret E. Lawless,
Acting Executive Associate Director for Mitigation.

[FR Doc. 01-3919 Filed 2-15-01; 8:45 am]

BILLING CODE 6718-04-P